FARM CREDIT ADMINISTRATION

12 CFR Parts 611, 618, 620

RIN 3052-AC03

Organization; General Provisions; Disclosure to Shareholders

AGENCY: Farm Credit Administration.

ACTION: Proposed rule; comment period extension.

SUMMARY: The Farm Credit Administration (FCA) Board extends the comment period on the proposed rule that would provide procedures for a Farm Credit System (FCS) direct lender association to request a national charter. The FCA Board extends the comment period on the proposed rule for 30 more days so interested parties have additional time to provide comments.

DATES: Please send your comments to us on or before April 20, 2001.

ADDRESSES: You may submit comments via electronic mail to “reg-comm@fca.gov” or through the Pending Regulations section of our Web site at www.fca.gov. You may also mail or deliver written comments to Thomas G. McKenzie, Director, Regulation and Policy Division, Office of Policy and Analysis, Farm Credit Administration, 1501 Farm Credit Drive, McLean, Virginia 22102-5090 or send them by facsimile transmission to (703) 734-5784. You may review copies of all comments we receive in the Office of Policy and Analysis, Farm Credit Administration.

FOR FURTHER INFORMATION CONTACT:

S. Robert Coleman, Senior Policy Analyst, Office of Policy and Analysis, Farm Credit Administration, McLean, VA 22102-5090, (703) 883-4498, TDD (703) 883-4444, or

Jennifer A. Cohn, Senior Attorney, Office of General Counsel, Farm Credit Administration, McLean, VA 22102-5090, (703) 883-4020, TDD (703) 883-4444.

SUPPLEMENTARY INFORMATION: On February 16, 2001, the FCA published a proposed rule that would amend its regulations to provide procedures for requesting national charters. See 66 FR 10639. The proposed rule would also require each association with a national charter to extend sound and constructive credit to eligible and creditworthy customers in its Local Service Area. In addition, the FCA proposed to establish controls through new business planning requirements for an association with a national charter. These new requirements will help strengthen the safety and soundness of the FCS. These requirements will also help ensure that the FCS continues to meet its public policy mission to provide adequate, dependable, and competitive credit and related services to agriculture and rural America. The comment period was scheduled to close on March 19, 2001. In response to several requests, we now extend the comment period for an additional 30 days, so you will have more time to comment.

Dated: March 16, 2001.
Jeanette P. Brinkley,
Acting Secretary, Farm Credit Administration Board.

[FR Doc. 01-7047 Filed 3-20-01; 8:45 am]

BILLING CODE 6705-01-P